TENNESSEE VALLEY AUTHORITY

North Alabama Utility-Scale Solar Environmental Impact Statement

AGENCY: Tennessee Valley Authority.

ACTION: Notice of Intent.

SUMMARY: The Tennessee Valley Authority (TVA) intends to prepare an Environmental Impact Statement (EIS) for the proposed TVA-developed solar facility in Lawrence County, Alabama. The purpose of this EIS is to address the potential environmental effects associated with building, operating, and maintaining the solar facility, North Alabama Utility-Scale Solar Project, in Lawrence County, Alabama. The proposed facility would encompass approximately 3,000 acres. Public comments are invited concerning both the scope of the EIS and environmental issues that should be addressed as part of this EIS.

DATES: Comments must be received or postmarked by March 2, 2020.

ADDRESSES: Written comments should be sent to Elizabeth Smith, NEPA Specialist, Tennessee Valley Authority, 400 W Summit Hill Drive #WT11B, Knoxville, Tennessee 37902. Comments may be sent electronically to esmith14@tva.gov.

FOR FURTHER INFORMATION CONTACT: Contact Elizabeth Smith by email at esmith14@tva.gov, by phone at (865) 632-3053, or by mail at the address above.

SUPPLEMENTARY INFORMATION: This notice is provided in accordance with the Council on Environmental Quality's regulations (40 CFR parts 1500 to 1508), TVA's procedures for implementing the National Environmental Policy Act (NEPA), and Section 106 of the National Historic Preservation Act (NHPA) and its implementing regulations (36 CFR part 800).

The proposed North Alabama Utility-Scale Solar facility, hereafter referred to as the project, would occupy two sites: Wheeler North and Wheeler South. The sites together encompass approximately 3,000 acres, and are located entirely in Lawrence County, Alabama. The Wheeler North site is within the city limits of Wheeler, Alabama, and is located approximately 3.6 miles southeast of Courtland, Alabama. The southern edge of the Wheeler North site is paralleled by US Highway 72. The Wheeler North site is mostly cultivated crop fields with portions of forested areas. The Wheeler South site is the larger of the two sites and runs along the eastern portion of State Highway 33 with County Road 85 running west in the southwest portion of the site. The Wheeler South site is located 0.21 miles southwest of Wheeler, Alabama and 2.25 miles southeast of Courtland, Alabama. The Wheeler South site is mostly forested with portions of cultivated crop fields and wooded private residences. Two power line easements run through the Wheeler South site.

Background

TVA is a federal agency and instrumentality of the United States of America, created in 1933 by an act of Congress to foster the social and economic well-being of the residents of the Tennessee Valley region. As part of its diversified energy strategy, TVA produces or obtains electricity from a diverse portfolio of energy sources, including solar, hydroelectric, wind, biomass, fossil fuel, and nuclear. In June 2019, TVA released the final 2019 Integrated Resource Plan (IRP) and associated Environmental Impact Statement, which updated the 2015 IRP. The 2019 IRP is a comprehensive study of how TVA will meet the demand for electricity in its service territory over the next 20 years. The target supply mix adopted by TVA in the 2019 IRP envisions the addition of up to 14 GW of solar by 2038.

Alternatives

In addition to a No Action Alternative, this EIS will address alternatives that meet the purpose and need for the project. In evaluating alternatives, TVA will also consider the availability of other potential sites where the project could be located. For the proposed site, TVA plans to consider the establishment of a reduced footprint so that impacts to cultural and/or biological resources could be avoided. The EIS will also evaluate ways to mitigate impacts that cannot be avoided. The description and analysis of these alternatives in the EIS will inform decision makers, other agencies, and the public about the potential for environmental impacts associated with the proposed solar facility. TVA solicits comment on whether there are other alternatives that should be assessed in the EIS.

Proposed Resources and Issues To Be Considered

Public scoping is integral to the process for implementing NEPA and ensures that (1) issues are identified early and properly studied, (2) issues of little significance do not consume substantial time and effort, and (3) the analysis of identified issues is thorough and balanced. This EIS will identify the purpose and need of the project and will contain descriptions of the existing environmental and socioeconomic resources within the area that could be affected by the proposed solar facility, including the documented historical, cultural, and environmental resources. Evaluation of potential environmental impacts to these resources will include, but not be limited to, water quality, air quality, soil erosion, floodplains, aquatic and terrestrial ecology, threatened and endangered species, botany, wetlands, visual resources, transportation, safety, land use, historic and archaeological resources, recreation, geology, solid and hazardous waste, and socioeconomic and environmental justice issues. The final range of issues to be addressed in the environmental review will be determined, in part, from scoping comments received. TVA is particularly interested in public input on other reasonable alternatives that should be considered in the EIS. The preliminary identification of reasonable alternatives and environmental issues in this notice is not meant to be exhaustive or final.

Public Participation

The public is invited to submit comments on the scope of this EIS no later than the date identified in the DATES section of this notice. Federal, state and local agencies and Native American Tribes are also invited to provide comments. After consideration of comments received during the scoping period, TVA will develop and distribute a scoping document that will summarize public and agency comments that were received and identify the schedule for completing the EIS process. Following analysis of the issues, TVA will prepare a draft EIS for public review and comment; the draft EIS is scheduled for completion in 2021. In finalizing the EIS and in making its final decision, TVA will consider the comments that it receives on the Draft EIS.

Authority: 40 CFR 1501.7.

M. Susan Smelley,
Director, Environmental Compliance and Operations.

[FR Doc. 2020-01604 Filed 1-29-20; 8:45 am]

BILLING CODE 8120-08-P